NATIONAL CREDIT UNION ADMINISTRATION

Sunshine Act; Notice of a Matter To Be Added to the Agenda for Consideration at an Agency Meeting

FEDERAL REGISTER CITATION OF PREVIOUS ANNOUNCEMENT: April 21, 2014 (79 FR 22166).

TIME AND DATE: 11:15 a.m., Thursday, April 24, 2014.

PLACE: Board Room, 7th Floor, Room 7047, 1775 Duke Street, Alexandria, VA 22314-3428.

STATUS: Closed.

Pursuant to the provisions of the “Government in Sunshine Act” notice is hereby given that the NCUA Board gave notice on April 21, 2014 (79 FR 22166) of the regular meeting of the NCUA Board scheduled for April 24, 2014. Prior to the meeting, on April 22, 2014, the NCUA Board unanimously determined that agency business required the addition of the first item on the closed agenda with less than seven days' notice to the public, and that no earlier notice of the deletion was possible.

MATTERS TO BE ADDED: 1. Delegation of Authority. Closed pursuant to Exemption (6).

FOR FURTHER INFORMATION CONTACT: Gerard Poliquin, Secretary of the Board, Telephone: 703-518-6304.

Gerard Poliquin,
Secretary of the Board.

[FR Doc. 2014-09558 Filed 4-23-14; 4:15 pm]

BILLING CODE 7535-01-P